NUCLEAR REGULATORY COMMISSION

[NRC-2021-0220]

Revision of Fees for the Criminal History Program: Fee Recovery for Fiscal Year 2022

AGENCY: U.S. Nuclear Regulatory Commission.

ACTION: Notification to licensees of criminal history check fee increase.

SUMMARY: The U. S. Nuclear Regulatory Commission (NRC) will increase the current fee of 10 dollars assessed to applicants and licensees for criminal history record checks to 35 dollars. This fee increase is necessary to recover the full cost for the administration of the Criminal History Program (CHP). Information regarding this change can be found on the NRC's CHP public website at https://www.nrc.gov/security/chp.html and in the CHP users guide at https://www.nrc.gov/site-help/e-submittals/criminal-history-user-guide.pdf.

DATES: The fee increase will begin on March 1, 2022.

ADDRESSES: Please refer to Docket ID NRC-2021-0220 when contacting the NRC about the availability of information regarding this document. You may obtain publicly available information related to this document using any of the following methods:

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

FOR FURTHER INFORMATION CONTACT: Doreen Turner, Office of Nuclear Security and Incident Response, U.S. Nuclear Regulatory Commission, Washington, DC 20555-0001, telephone: 301-415-7553, email: Doreen.Turner@nrc.gov.

SUPPLEMENTARY INFORMATION:

I. Background

In July 2017, the NRC lowered the fee assessed to applicants and licensees for criminal history record checks from 26 dollars to 10 dollars to draw down on a surplus balance of fee receipts. The NRC's CHP costs have historically been fully covered from fees collected. Over the past several years, the surplus balance of CHP funding has been exhausted, and the program is now operating at a deficit.

Pursuant to requirements in the Chief Financial Officers Act of 1990 (31 U.S.C.), the NRC conducts biennial reviews of the charges assessed to applicants and licensees for CHP background checks to assess the suitability of fees to cover both the cost charged by the Federal Bureau of Investigation (FBI) and the costs of NRC to administer the program. The biennial review completed in Fiscal Year (FY) 2019, concluded that the current fee of 10 dollars being charged to applicants and licensees was not sufficient to recover the full cost of administering the program and the NRC should increase its fee. During FY 2020, the fees charged to applicants and licensees for CHP records checks were not raised due to the COVID-19 public health emergency and a decision by the NRC to defer the fee increase temporarily.

II. Discussion

The last biennial review completed by NRC at the end of FY 2021 reaffirmed that the current fee of 10 dollars being charged to applicants and licensees was not sufficient to recover the full cost of administering the program, and the NRC should increase its fee to 35 dollars. This fee is the sum of the user fee charged by the FBI ($11.25 effective January 1, 2019) plus NRC's direct and indirect costs incurred in processing fingerprints.

As a reminder, payment is due upon fingerprint card submission, and the NRC's preferred method of payment is through Pay.gov at https://www.pay.gov which includes payment by debit or credit card or electronic funds transfer (e-check). Although electronic is preferred, the NRC also accepts cashier checks or money orders made payable to the U.S. Nuclear Regulatory Commission. Fingerprint cards along with proof of payment should be sent to:

U.S. Nuclear Regulatory Commission: Director, Division of Physical and Cyber Security Policy, Attn: Criminal History Program/Mail Stop—T-07D04M, 11545 Rockville Pike, Rockville, MD 20852-2738

Contact: Doreen Turner, Criminal History Program Manager, Ph. 301-415-7553, Doreen.Turner@nrc.gov

Dated: December 22, 2021.
For the Nuclear Regulatory Commission.
Sabrina D. Atack,
Acting Director, Division of Physical and Cyber Security Policy, Office of Nuclear Security and Incident Response.

[FR Doc. 2021-28262 Filed 12-28-21; 8:45 am]

BILLING CODE 7590-01-P